DEPARTMENT OF THE INTERIOR

National Park Service

[NPS-WASO-NAGPRA-NPS0033967; PPWOCRADN0-PCU00RP14.R50000]

Notice of Inventory Completion: Walsh Gallery, Seton Hall University, South Orange, NJ

AGENCY: National Park Service, Interior.

ACTION: Notice.

SUMMARY: The Walsh Gallery at Seton Hall University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Walsh Gallery. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Walsh Gallery at the address in this notice by June 30, 2022.

FOR FURTHER INFORMATION CONTACT: Laura Hapke, Collections Manager, Walsh Gallery, University Libraries, Seton Hall University, 400 South Orange Avenue, South Orange, NJ 07079, telephone (973) 275-2165, email laura.hapke@shu.edu.

SUPPLEMENTARY INFORMATION: Notice is here given in accordance with the Native American Graves Protection and Repatriation Act (NAGPRA), 25 U.S.C. 3003, of the completion of an inventory of human remains and associated funerary objects under the control of the Walsh Gallery, Seton Hall University, South Orange, NJ. The human remains and associated funerary objects were removed from Sussex County, NJ, and Orange County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Walsh Gallery professional staff in consultation with representatives of the Delaware Nation, Oklahoma; Delaware Tribe of Indians; and the Stockbridge Munsee Community, Wisconsin (hereafter referred to as “The Tribes”).

History and Description of the Remains

In 1941, human remains representing, at minimum, one individual were removed from Burial 1 at the Rosenkrans site in Sussex County, NJ. Lewis Haggerty excavated the site following the discovery of two slate gorgets. In 1976, Haggerty shipped the human remains and associated funerary objects from this collection to experts at the Smithsonian Institution, the State University College at Buffalo, and other, unrecorded institutions for research purposes. In 1981, these human remains, and their associated funerary objects were donated to Seton Hall University's Archaeology Department, and in 2015, the collection was transferred to the Walsh Gallery. The human remains belong to an individual of unknown sex 10-15 years old. No known individual was identified. The 19 associated funerary objects are five gorgets, the charred remains of a dog or wolf, two pendants, nine points, one knife, and one adz.

In 1943 or 1948, human remains representing, at minimum, one individual were removed from Burial 2 at the Rosenkrans site in Sussex County, NJ. This burial site was first excavated by Kenneth Gleason and Gustave Dumont in 1943. It was subsequently excavated by Lewis Haggerty in 1948. Gustave Dumont lent some of the associated funerary objects excavated from this burial to Herbert Kraft for an article Kraft wrote in 1976. In 1976, Lewis Haggerty shipped the human remains and their associated funerary objects to experts at the Smithsonian Institution, the State University College at Buffalo, and other, unrecorded institutions for research purposes. In 1976, copper beads from Burial 2 were sent to the General Electric Company Materials and Process Laboratory in Syracuse, NY, where tests showed that the copper originated in Michigan. In 1981, these human remains and associated funerary objects were donated to Seton Hall University's Archaeology Department, and in 2015, the collection was transferred to the Walsh Gallery. The human remains belong to a young child of unknown sex. No known individual was identified. The 155 associated funerary objects are 146 copper beads, seven projectile points, one drill, and one red ocher.

Between 1947 and 1948, human remains representing, at minimum, two individuals were removed from Burial 3 at the Rosenkrans site in Sussex County, NJ. This burial was excavated by Lewis Haggerty. The burial was covered with a slab of sandstone nearly a meter long, and the human remains had been interred on a wooden slab and surrounded with sand. In 1976, Haggerty shipped the human remains and their associated funerary objects to experts at the Smithsonian Institution, the State University College at Buffalo, and other, unrecorded institutions for research purposes. In 1981, these human remains and associated funerary objects were donated to Seton Hall University's Archaeology Department, and in 2015, the collection was transferred to the Walsh Gallery. The human remains belong to an adult male 40-50 years old, and a child 1-2 years old. No known individuals were identified. The 158 associated funerary objects are seven points, one drill, one red ocher, and 149 copper beads.

Between 1947 and 1948, human remains representing, at minimum, one individual were removed from Burial 4 at the Rosenkrans site in Sussex County, NJ. This burial was excavated by Lewis Haggerty and Gustave Dumont. In 1976, Haggerty shipped the human remains and their associated funerary objects to experts at the Smithsonian Institution, the State University College at Buffalo, and other, unrecorded institutions for research purposes. In 1981, these human remains and associated funerary objects were donated to Seton Hall University's Archaeology Department, and in 2015, the collection was transferred to the Walsh Gallery. The human remains belong to a young adult of unknown sex 15-30 years old. No known individual was identified. The 14 associated funerary objects are one copper boatstone, one limestone block-end-tube, one jasper drill, eight copper beads, one red ocher, and two pieces of unidentified material.

Between 1947 and 1948, human remains representing, at minimum, two individuals were removed from Burial 5 at the Rosenkrans site in Sussex County, NJ. This burial was excavated by Lewis Haggerty. An analysis performed by Herbert Kraft in 1976 could not determine whether the two individuals were intentionally buried together or were buried in the same place at different times. After excavation, the human remains, and their associated funerary objects stayed in Haggerty's custody. In 1976, Haggerty shipped the human remains and their associated funerary objects to experts at the Smithsonian Institution, the State University College at Buffalo, and other, unrecorded institutions for purposes of research. Charcoal from Burial 5 carbon dated by DICAR Radioisotopes Laboratory sometime between 1963 and 1976 yielded an estimated date for the burial of 420 B.C.E. In 1976, copper beads from Burial 5 were sent to the General Electric Company Materials and Process Laboratory in Syracuse, NY, where tests showed that the copper originated in Michigan. In 1981, these human remains, and their associated funerary objects were donated to Seton Hall University's Archaeology Department, and in 2015, the collection was transferred to the Walsh Gallery. The human remains belong to a child of unknown sex 8-10 years old and a baby 6 months old. No known individuals were identified. The 352 associated funerary objects are 348 copper beads, two swatches of cloth, one gorget, and one copper celt.

Between 1947 and 1948, human remains representing, at minimum, two individuals were removed from Burial 6 at the Rosenkrans site in Sussex County, NJ. This burial was excavated by Lewis Haggerty. After excavation, the human remains stayed in Haggerty's custody. In 1976, Haggerty shipped the human remains to experts at the Smithsonian Institution, the State University College at Buffalo, and other, unrecorded institutions for research purposes. In 1981, these human remains were donated to Seton Hall University's Archaeology Department, and in 2015, they were transferred to the Walsh Gallery. The human remains belong to an adolescent of unknown sex 10-16 years old and an adult of unknown sex at least 25 years old. No known individuals were identified. No associated funerary objects are present.

Between 1947 and 1948, human remains representing, at minimum, one individual were removed from Burial 7 at the Rosenkrans site in Sussex County, NJ. This burial was excavated by Lewis Haggerty. After excavation, the human remains, and their associated funerary objects stayed in Haggerty's custody. In 1976, Haggerty shipped the human remains and their associated funerary objects to experts at the Smithsonian Institution, the State University College at Buffalo, and other, unrecorded institutions for research purposes. In 1981, these human remains, and their associated funerary objects were donated to Seton Hall University's Archaeology Department, and in 2015, the collection was transferred to the Walsh Gallery. The human remains belong to an adult of undetermined age and sex. No known individual was identified. The 31 associated funerary objects are one charred pignut, one carbonized cloth, one bird remain, one turtle remain, one partial elk femur, nine projectile points, one banner stone, one antler point, two boatstones, one blocked-end tube, six whetstones, one lot of celt fragments, one shattered chopper, one side scraper, one pebble smoothing stone, one flake knife or scraper, and one pipe.

Between 1947 and 1948, human remains representing, at minimum, one individual were removed from Burial 8 at the Rosenkrans site in Sussex County, NJ. This burial was excavated by Lewis Haggerty. Two large stones covered the burial. After excavation, the human remains, and their associated funerary objects stayed in Haggerty's custody. In 1976, Haggerty shipped the human remains and their associated funerary objects to experts at the Smithsonian Institution, the State University College at Buffalo, and other, unrecorded institutions for research purposes. In 1981, these human remains, and their associated funerary objects were donated to Seton Hall University's Archaeology Department, and in 2015, the collection was transferred to the Walsh Gallery. The human remains belong to a male 40-50 years old. His front teeth had been either modified or injured during his lifetime, leading Herbert Kraft to hypothesize that the decedent was a shaman. No known individual was identified. The three associated funerary objects are three points.

Between 1947 and 1948, human remains representing, at minimum, one individual were removed from Burial 9 at the Rosenkrans site in Sussex County, NJ. This burial was excavated by Lewis Haggerty. Three large stones covered the burial (the stones do not appear to have been collected by Haggerty). After excavation, the human remains, and their associated funerary objects stayed in Haggerty's custody. Human remains from Burial 9 carbon dated by a researcher named Ritchie sometime between 1963 and 1976 yielded an estimated date for the burial of 610 B.C.E. In 1976, Haggerty shipped the human remains and their associated funerary objects to experts at the Smithsonian Institution, the State University College at Buffalo, and other, unrecorded institutions for research purposes. In 1981, these human remains and associated funerary objects were donated to Seton Hall University's Archaeology Department, and in 2015, the collection was transferred to the Walsh Gallery. The human remains belong to an adult of undetermined sex 20-30 years old. No known individual was identified. The 13 associated funerary objects are nine projectile points, one boatstone, one steatite cone, one lot containing copper beads, charcoal and ash, and one copper awl. The copper awl is currently missing.

Between 1947 and 1948, human remains representing, at minimum, two individuals were removed from Burial 10 at the Rosenkrans site in Sussex County, NJ. This burial was excavated by Lewis Haggerty. After excavation, the human remains, and their associated funerary objects stayed in Haggerty's custody. In 1976, Haggerty shipped the human remains and their associated funerary objects to experts at the Smithsonian Institution, the State University College at Buffalo, and other, unrecorded institutions for research purposes. In 1981, these human remains, and their associated funerary objects were donated to Seton Hall University's Archaeology Department, and in 2015, the collection was transferred to the Walsh Gallery. The human remains belong to an adult of unknown sex 35-45 years old and a baby 6 months old. The collections manager at Seton Hall University suspects that the elements comprising the adult's skull were coated in a varnish sometime after excavation. No known individuals were identified. The 34 associated funerary objects are one weasel skull, five blocked-end tubes, one boatstone, two drills, one blade, 12 shell beads, one gorget, one unfinished gorget, and 10 projectile points.

In 1947 or 1948, human remains representing, at minimum, one individual were removed from Burial 11 at the Rosenkrans site in Sussex County, NJ. This burial was excavated by Lewis Haggerty. After excavation, the human remains, and their associated funerary objects stayed in Haggerty's custody. In 1976, Haggerty shipped the human remains and their associated funerary objects to experts at the Smithsonian Institution, the State University College at Buffalo, and other, unrecorded institutions for research purposes. In 1981, these human remains, and their associated funerary objects were donated to Seton Hall University's Archaeology Department, and in 2015, the collection was transferred to the Walsh Gallery. The human remains belong to an adult of unknown sex 20-25 years old. No known individual was identified. The 15 associated funerary objects are 15 copper beads.

In 1947 or 1948, human remains representing, at minimum, one individual were removed from Rosenkrans site Burial 12 in Sussex County, NJ. This burial was excavated by Lewis Haggerty. After excavation, the human remains, and their associated funerary objects stayed in Haggerty's custody. In 1976, Haggerty shipped the human remains and their associated funerary objects to experts at the Smithsonian Institution, the State University College at Buffalo, and other, unrecorded institutions for research purposes. In 1981, these human remains, and their associated funerary objects were donated to Seton Hall University's Archaeology Department, and in 2015, the collection was transferred to the Walsh Gallery. The human remains belong to a child of unknown sex approximately 9 years old. No known individual was identified. The 196 associated funerary objects are 106 copper beads and 90 shell beads.

In 1947 or 1948, human remains representing, at minimum, one individual were removed from Burial 13 at the Rosenkrans site in Sussex County, NJ. This burial was excavated by Lewis Haggerty. After excavation, the human remains, and their associated funerary objects stayed in Haggerty's custody. In 1976, Haggerty shipped the human remains and their associated funerary objects to experts at the Smithsonian Institution, the State University College at Buffalo, and other, unrecorded institutions for research purposes. In 1981, these human remains, and their associated funerary objects were donated to Seton Hall University's Archaeology Department, and in 2015, the collection was transferred to the Walsh Gallery. The human remains belong to a child of unknown sex 3-4 years old. No known individual was identified. The 40 associated funerary objects are 39 copper beads and one shard of pottery.

Based on the radiocarbon dates from Burial 9 and Burial 5, the human remains from the Rosenkrans site are estimated to date between approximately 610 B.C.E. and 420 B.C.E. At least 13 burials were excavated at the Rosenkrans site. According to Kraft, most of these burials are secondary interments, which according to him explains the incomplete nature of the human remains. Based on archeological information, these human remains are Native American. Herbert Kraft identified the human remains and associated funerary objects as “Middlesex” and “Adena-like” in an article he published in 1976, and as “Adena Middlesex” in the Seton Hall University's accession records.

At an unknown date likely between 1950 and 1970, human remains representing, at minimum, one individual were removed from Mashipacong Island in Sussex County, NJ. The human remains were collected by Philip Launer and donated to Seton Hall University in 1988. The human remains belong to an individual of unknown age and sex. No known individual was identified. No associated funerary objects are present.

Herbert Kraft's 1985 archaeological survey of Mashipacong Island notes that the artifacts found on different parts of the island show that it was inhabited in the Archaic and Woodland periods. These human remains are believed to be Native American based on geographical information and because Launer focused exclusively on Native American archeology.

At an unknown date likely between 1940 and 1960, human remains representing, at minimum, one individual were removed from Skunk Run in Sussex County, NJ. According to a 1960 report by Philip Launer published in the Bulletin of the Archaeological Society of New Jersey, “on the upper terrace, a single burial with no grave goods was shattered by Mr. Mettler's plow. The plow-shattered bones were collected (. . .)” and saved by Launer until they were donated to Seton Hall University in 1988. In 2015, the University's archeological collection was transferred to the Walsh Gallery. The human remains belong to an individual of unknown age and sex. No known individual was identified. No associated funerary objects are present.

The Skunk Run site is believed to be pre-contact in date. Point types collected by Launer suggest the site was inhabited in the Late Archaic to Middle Woodland periods. Launer believed the site was inhabited mostly in the Archaic period, but no date for the human remains was ever recorded in the University's records. The human remains were determined to be Native American based on geographical information.

Between 1955 and 1958, human remains representing, at minimum, one individual were removed by unknown individuals and under unknown circumstances from a site near Port Jervis in Orange, NY. In 1981, these human remains were donated to Seton Hall University, and in 2015, the University's archeological collection was transferred to the Walsh Gallery. The human remains belong to an individual of unknown age and sex. No known individual was identified. No associated funerary objects are present. The human remains were determined to be Native American based on geographical information.

Determinations Made by the Walsh Gallery, Seton Hall University

Officials of the Walsh Gallery, Seton Hall University have determined that:

• Pursuant to 25 U.S.C. 3001(9), the human remains described in this notice represent the physical remains of 20 individuals of Native American ancestry.

• Pursuant to 25 U.S.C. 3001(3)(A), the 1,029 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Laura Hapke, Walsh Gallery, University Libraries, Seton Hall University, 400 South Orange Avenue, South Orange, NJ 07079, telephone 973-275-2165, email laura.hapke@shu.edu, by June 30, 2022. After that date, if no additional requestors have come forward, transfer of control of the human remains and associated funerary objects to The Tribes may proceed.

The Walsh Gallery, Seton Hall University is responsible for notifying The Tribes that this notice has been published.

Dated: May 25, 2022.
Melanie O'Brien,
Manager, National NAGPRA Program.

[FR Doc. 2022-11638 Filed 5-27-22; 8:45 am]

BILLING CODE 4312-52-P